Title 3—

The President

Proclamation 8862 of September 13, 2012

Constitution Day and Citizenship Day, Constitution Week, 2012

By the President of the United States of America

A Proclamation

Today, we celebrate our heritage as a country bound together by fidelity to a set of ideas and a system of governance first laid out in America's Constitution. The product of fierce debate and enduring compromise, our Nation's Constitution has guided our progress from 13 to 50 United States that stretch from sea to shining sea. It has watched over our growth from a fragile experiment in democracy to a beacon of freedom that lights the world. It has vested in each of us the power to appeal to principles that could broaden democracy's reach.

As we mark this 225th anniversary of the signing of our Constitution, we also recognize the candidates for citizenship who will commemorate this day by joining our American family. For more than two centuries, our country has drawn enterprising men and women from around the world—individuals who have sought to build a life as good as their talents and their hard work would allow. Generations have crossed land and ocean because of the belief that, in America, all things are possible. As a new group of citizens takes an oath to support and defend our country's oldest principles, we affirm another truth: that our American journey and our success would never have been possible without the hope, the drive, and the irrepressible optimism that every generation of immigrants has brought to our shores. Across our country, Americans are working side-by-side with our Nation's newest citizens to build strong, welcoming communities that embrace the talents and contributions of all their members.

This week, we reflect on the basic rights and responsibilities of citizenship, the founding documents from which they were drawn, and the extraordinary legacy of progress they have enabled. Let us forever uphold the ideals the Framers enshrined in our Constitution, and let us never cease in our pursuit of the more perfect Union they imagined so many years ago.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2012, as Constitution Day and Citizenship Day, and September 17 through September 23, 2012, as Constitution Week. I encourage Federal, State, and local officials, as well as leaders of civic, social, and educational organizations, to conduct ceremonies and programs that bring together community members to reflect on the importance of active citizenship, recognize the enduring strength of our Constitution, and reaffirm our commitment to the rights and obligations of citizenship in this great Nation.

IN WITNESS WHEREOF, I have hereunto set my hand this thirteenth day of September, in the year of our Lord two thousand twelve, and of the Independence of the United States of America the two hundred and thirty-seventh.

[FR Doc. 2012-23187

Filed 9-17-12; 11:15 am]

Billing code 3295-F2-P